DEPARTMENT OF HEALTH AND HUMAN SERVICES

Centers for Disease Control and Prevention

Disease, Disability, and Injury Prevention and Control Special Emphasis Panel (SEP): The Small Business Innovation Research (SBIR) 020, “New Laboratory Tests for Tuberculosis and Detection of Drug Resistance” and SRIB 021, “Development of Novel Information System for Remote Tuberculosis Control and Prevention”

Correction: This notice was published in the Federal Register on February 23, 2007, Volume 72, Number 36, page 8166. The reference to the acronym SRIB 021 in the SEP title is corrected to read SBIR 021.

For Further Information Contact: Felix Rogers, PhD, M.P.H., Scientific Review Administrator, Coordinating Center for Infectious Diseases, National Center for Immunization and Respiratory Diseases, Office of the Director, CDC, 1600 Clifton Road NE., Mailstop E05, Atlanta, GA 30333, Telephone 404.639.6101.

The Director, Management Analysis and Services Office, has been delegated the authority to sign Federal Register notices pertaining to announcements of meetings and other committee management activities, for both CDC and the Agency for Toxic Substances and Disease Registry.

Dated: February 28, 2007.
Elaine L. Baker,
Acting Director, Management Analysis and Services Office,Centers for Disease Control and Prevention.

[FR Doc. E7-3843 Filed 3-5-07; 8:45 am]

BILLING CODE 4163-18-P